POSTAL SERVICE

39 CFR Part 111

Revised Format for Pressure-Sensitive Presort Destination Package Labels

AGENCY: Postal Service.

ACTION: Final rule.

SUMMARY: This final rule sets forth the Domestic Mail Manual (DMM) standards adopted by the Postal Service to implement the use of redesigned pressure-sensitive package labels. The redesigned labels—similar to the current labels that mailers affix to the top mailpiece in packages of mailpieces (bundles of individual mailpieces secured together) instead of using optional endorsement lines (OELs)—will continue to indicate the presort level of all the pieces banded into individual presort destination packages.

The redesigned pressure-sensitive package labels will support the deployment of a new system, designated as the Automated Package Processing System (APPS), that will extend the benefits of automated handling to the processing of small, lightweight parcels and flat-size pieces such as magazines and catalogs prepared in packages (several mailpieces presorted and secured together into a single unit).

Mailers may begin affixing the new labels starting on October 16, 2003. Mailers using the current nonbarcoded pressure-sensitive labels may continue using those labels until April 1, 2004.

EFFECTIVE DATE: This final rule takes effect on October 30, 2003.

FOR FURTHER INFORMATION CONTACT: Neil Berger at (703) 292-3645, Mailing Standards, U.S. Postal Service; or Jamie Gallagher at (202) 268-4031, P&DC Operations, U.S. Postal Service.

SUPPLEMENTARY INFORMATION: On August 18, 2003, the Postal Service published a proposed rule in the Federal Register (68 FR 49396-49406) that contained minor changes to mailing standards in the Domestic Mail Manual (DMM) to implement the use of reformatted pressure-sensitive presort destination package labels. In that proposed rule, the Postal Service also requested comments from the public and the mailing industry. No comments were received on the proposed rule.

As explained in the proposed rule, the new barcoded pressure-sensitive package labels would be one method to support the use of the APPS, which the Postal Service plans to deploy beginning in 2004 in major processing and distribution centers to improve operational efficiency and increase workhour productivity.

The use of these new labels will have no significant effect on mail preparation standards and processes or on current mailer operations, especially mailer operations using optional endorsement lines (OELs) for designating the presort level of packages containing letter-size pieces or flat-size pieces. This change will not replace OELs. In fact, mailers currently using OELs should continue using these cost-effective, time saving information lines rather than converting to the use of pressure-sensitive package labels.

For the reasons presented in the proposed rule and those noted above in this final rule, the Postal Service adopts the following changes in the Domestic Mail Manual, which is incorporated by reference in the Code of Federal Regulations. See 39 CFR 111.1.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of the Domestic Mail Manual (DMM) as set forth below:

Domestic Mail Manual (DMM)

* * * * *

M Mail Preparation and Sortation

M000 General Preparation Standards

* * * * *

M020 Packages

1.0 BASIC STANDARDS

* * * * *

1.3 Labeling

[Revise 1.3 to read as follows:]

Unless excepted by standard, the presort level of each package (other than carrier route packages) must be identified either with an optional endorsement line under M013 or with a barcoded pressure-sensitive package label. On letter-size mail (including card-size pieces), the package label must be placed in the lower left corner of the address side of the top piece in the package. On flat-size mail, the label may be placed anywhere on the address side of the top piece in the package. Package labels must not be obscured by banding or shrinkwrap. The following colors and presort characters apply to package labels (nonbarcoded labels, including red Label D and tan Label MXD, may be used until April 1, 2004):

a. Firm (Periodicals use only), blue Label F.

b. Five-digit presort level, red Label 5 or red Label D.

c. Three-digit presort level, green Label 3.

d. ADC presort level, pink Label A.

e. Mixed ADC presort level, tan Label X or tan Label MXD.

* * * * *

M030 Containers

M031 Labels

1.0 SACK AND TRAY LABELS

* * * * *

[Revise heading of 1.2 to read as follows:]

1.2 Line 1 (Destination Line)

[Revise 1.2 to read as follows:]

Line 1 (destination line) must meet these standards:

a. Placement. Line 1 must be the first visible line on the label. It must be completely visible and legible when placed in the label holder. This visibility is ensured if the top of this line is no less than 1/8 (0.125) inch below the top of the label when the label is cut and prepared.

b. Information. Line 1 must contain only the information specified by standard, including the appropriate destination facility prefix (e.g., “ADC”). Two zeros may follow the 3-digit ZIP Code prefix required by labeling standards (e.g., 223 as 22300).

c. Overseas Military Mail. On 5-digit sacks and trays for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the sack or tray.

[Revise heading of 1.3 to read as follows:]

1.3 Line 2 (Content Line)

* * * * *

[Revise heading of 1.4 to read as follows:]

1.4 Line 3 (Origin Line)

* * * * *

4.0 PALLET LABELS

* * * * *

[Revise heading of 4.5 to read as follows:]

4.5 Line 1 (Destination Line)

[Revise 4.5 to read as follows:]

Line 1 (destination line) must meet these standards:

a. Placement. Line 1 must be the first visible line on the label. It must be completely visible and legible when placed on the pallet. If the pallet label does not provide enough space for all required Line 1 information, the destination ZIP Code may be placed right-justified on the line immediately below the rest of Line 1 and above Line 2 (content line). A standard abbreviation for the destination city name may be used.

b. Information. Line 1 must contain only the information specified by standard, including the appropriate destination facility prefix (e.g., “ADC”). Two zeros may follow the 3-digit ZIP Code prefix required by labeling standards (e.g., 223 as 22300).

c. Overseas Military Mail. On 5-digit pallets for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail on the pallet.

[Revise heading of 4.6 to read as follows:]

4.6 Line 2 (Content Line)

* * * * *

[Revise heading of 4.7 to read as follows:]

4.7 Line 3 (Origin Line)

* * * * *

M032 Barcoded Labels

1.0 BASIC STANDARDS—TRAY AND SACK LABELS

* * * * *

[Revise heading of 1.2 to read as follows:]

1.2 Line 1 (Destination Line)

* * * * *

[Revise 1.2c to read as follows:]

c. Overseas Military Mail. On 5-digit sacks and trays for overseas military destinations, Line 1 shows, from left to right, “APO” or “FPO,” followed by “AE” (for ZIP Codes within the ZIP Code prefix range 090-098), “AA” (for ZIP Codes within the 3-digit ZIP Code prefix 340), or “AP” (for ZIP Codes within the ZIP Code prefix range 962-966), followed by the destination 5-digit ZIP Code of the mail in the sack or tray.

[Revise heading of 1.3 to read as follows:]

1.3 Line 2 (Content Line)

* * * * *

[Change “STD MACH & IRREG 5D” to “STD MACH-IRREG 5D” in Exhibit 1.3 to read as follows:]

Class and mailing | CIN | Human-readable content line
* * * * * * *
Standard Mail:
* * * * * * *
STD Machinable and Irregular Parcels—Presorted:
5-digit sacks | 603 | STD MACH-IRREG 5D
* * * * * * *

[Revise heading of 1.4 to read as follows:]

1.4 Line 3 (Origin Line)

* * * * *

M070 Mixed Classes

* * * * *

M073 Combined Mailings of Standard Mail and Package Services Parcels

1.0 COMBINED MACHINABLE PARCELS—RATES OTHER THAN PARCEL POST OBMC PRESORT, BMC PRESORT, DSCF, AND DDU

* * * * *

[Revise heading of 1.6 to read as follows:]

1.6 Sacking and Labeling

[Revise 1.6 to read as follows:]

Preparation sequence, sack size, and labeling:

a. 5-digit scheme (optional, but required for Standard Mail 3/5 rate eligibility); 10-piece or 20-pound minimum; labeling:

(1) Line 1: L606.

(2) Line 2: “STD/PSVC MACH 5D SCH.”

b. 5-digit (optional, but required for Standard Mail 3/5 rate eligibility); 10-piece or 20-pound minimum; labeling:

(1) Line 1: 5-digit ZIP Code on mail (see M031 for overseas military mail).

(2) Line 2: “STD/PSVC MACH 5D.”

c. ASF (optional; allowed only for mail deposited at an ASF to claim DBMC rate); 10-piece or 20-pound minimum; labeling:

(1) Line 1: L602. DBMC rate eligibility determined by Exhibit E650.5.1 and Exhibit E751.1.3.

(2) Line 2: “STD/PSVC MACH ASF.”

d. BMC (required); 10-piece or 20-pound minimum; labeling:

(1) Line 1: L601. DBMC rate eligibility determined by Exhibit E650.5.1 and Exhibit E751.1.3.

(2) Line 2: “STD/PSVC MACH BMC.”

e. Mixed BMC (required); no minimum; labeling:

(1) Line 1: “MXD” followed by L601 Column B information for BMC serving 3-digit ZIP Code prefix of entry post office.

(2) Line 2: “STD/PSVC MACH WKG.”

* * * * *

M100 First-Class Mail (Nonautomation)

* * * * *

M130 Presorted First-Class Mail

* * * * *

2.0 PREPARATION—MACHINABLE LETTER-SIZE PIECES

* * * * *

[Revise heading of 2.2 to read as follows:]

2.2 Traying and Labeling

[Revise 2.2 to read as follows:]

Preparation sequence, tray size, and labeling:

a. 5-digit (optional); full trays (no overflow); labeling:

(1) Line 1: city, state, and 5-digit ZIP Code on mail (see M031 for overseas military mail).

(2) Line 2: “FCM LTR 5D MACH.”

b. 3-digit (required); full trays (no overflow), except for one less-than-full tray for each origin 3-digit(s); labeling:

(1) Line 1: L002, Column A.

(2) Line 2: “FCM LTR 3D MACH.”

c. AADC (required); full trays (no overflow), with pieces grouped by 3-digit ZIP Code prefix; labeling:

(1) Line 1: L801.

(2) Line 2: “FCM LTR AADC MACH.”

d. Mixed AADC (required); no minimum, with pieces grouped by AADC; labeling:

(1) Line 1: “MXD” followed by city, state, and 3-digit ZIP Code prefix of facility serving 3-digit ZIP Code prefix of entry office, as shown in L002, Column C.

(2) Line 2: “FMC LTR MACH WKG.”

3.0 PREPARATION—NONMACHINABLE LETTER-SIZE PIECES

[Revise heading of 3.1 to read as follows:]

3.1 Packaging and Labeling

[Revise 3.1 to read as follows:]

Except as provided in M020.1.9, packaging is required before traying. A package must be prepared when the quantity of addressed pieces for a required presort level reaches a minimum of 10 pieces. Smaller volumes are not permitted except for mixed ADC packages. Mailers who prefer that the USPS not automate letter-size pieces must also identify each package with a facing slip marked “MANUAL ONLY” or use a “MANUAL ONLY” optional endorsement line (see M013). Preparation sequence, package size, and labeling:

[Change in 3.1a “red Label D” to “red Label 5”; change in 3.1d “tan Label MXD” to “tan Label X” to read as follows:]

a. 5-digit (required); 10-piece minimum; red Label 5 or optional endorsement line (OEL); labeling not required for pieces in full 5-digit trays.

b. 3-digit (required); 10-piece minimum; green Label 3 or OEL.

c. ADC (required); 10-piece minimum; pink Label A or OEL.

d. Mixed ADC (required); no minimum; tan Label X or OEL.

[Delete current 3.2 and redesignate current 3.3 as new 3.2; revise heading of new 3.2 to read as follows:]

3.2 Traying and Labeling

[Revise 3.2 to read as follows:]

Preparation sequence, tray size, and labeling:

a. 5-digit (required); full trays (no overflow); labeling:

(1) Line 1: city, state, and 5-digit ZIP Code on mail (see M031 for overseas military mail).

(2) Line 2: “FCM LTR 5D MANUAL.”

b. 3-digit (required); full trays (no overflow), except for one less-than-full tray for each origin 3-digit(s); labeling:

(1) Line 1: L002, Column A.

(2) Line 2: “FCM LTR 3D MANUAL.”

c. ADC (required); full trays (no overflow); labeling:

(1) Line 1: L004.

(2) Line 2: “FCM LTR ADC MANUAL.”

d. Mixed ADC (required); no minimum; labeling:

(1) Line 1: “MXD” followed by city, state, and 3-digit ZIP Code prefix of facility serving 3-digit ZIP Code prefix of entry post office, as shown in L002, Column C.

(2) Line 2: “FCM LTR MANUAL WKG.”

[Revise heading of 4.0 to read as follows:]

4.0 PREPARATION—FLAT-SIZE PIECES

[Revise heading of 4.1 to read as follows:]

4.1 Packaging and Labeling

[Revise 4.1 to read as follows:]

Except as provided in M020.1.9, packaging is required before traying. A package must be prepared when the quantity of addressed pieces for a required presort level reaches a minimum of 10 pieces. Smaller volumes are not permitted except for mixed ADC packages. Preparation sequence, package size, and labeling:

[Change in 4.1a “red Label D” to “red Label 5”; change in 4.1d “tan Label MXD” to “tan Label X” to read as follows:]

a. 5-digit (required); 10-piece minimum; red Label 5 or optional endorsement line (OEL).

b. 3-digit (required); 10-piece minimum; green Label 3 or OEL.

c. ADC (required); 10-piece minimum; pink Label A or OEL.

d. Mixed ADC (required); no minimum; tan Label X or OEL.

[Delete current 4.2 and redesignate current 4.3 as new 4.2; revise heading of new 4.2 to read as follows:]

4.2 Traying and Labeling

[Revise new 4.2 to read as follows:]

Preparation sequence, tray size, and labeling:

a. 5-digit (required); full trays (no overflow); labeling:

(1) Line 1: city, state, and 5-digit ZIP Code on mail (see M031 for overseas military mail).

(2) Line 2: “FCM FLTS 5D NON BC.”

b. 3-digit (required); full trays (no overflow), except for one less-than-full tray for each origin 3-digit(s); labeling:

(1) Line 1: L002, Column A.

(2) Line 2: “FCM FLTS 3D NON BC.”

c. ADC (required); full trays (no overflow); labeling:

(1) Line 1: L004.

(2) Line 2: “FCM FLTS ADC NON BC.”

d. Mixed ADC (required); no minimum; labeling:

(1) Line 1: “MXD” followed by city, state, and 3-digit ZIP Code prefix of facility serving 3-digit ZIP Code prefix of entry post office, as shown in L002, Column C.

(2) Line 2: “FCM FLTS NON BC WKG.”

[Delete current 4.4.]

[Revise heading of 5.0 to read as follows:]

5.0 PREPARATION—PARCELS

[Delete current 5.1 and redesignate current 5.2 as new 5.1; revise heading of new 5.1 to read as follows:]

5.1 Packaging and Labeling

[Revise introductory text of new 5.1 to read as follows] Packaging is generally required before sacking. A package must be prepared when the quantity of addressed pieces for a required presort level reaches a minimum of 10 pieces. Smaller volumes are not permitted except for mixed ADC packages. Packaging is not required if the parcels are ½ inch thick or greater and placed in a sack to the same destination to which they would otherwise be packaged (e.g., in a 3-digit sack rather than in a 3-digit package). Packaging is also not required if the parcels are so large that 10 or fewer fill a sack. Preparation sequence, package size, and labeling:

[Change in new 5.1a “red Label D” to “red Label 5”; change in new 5.1d “tan Label MXD” to “tan Label X” to read as follows:]

a. 5-digit (required); 10-piece minimum; red Label 5 or optional endorsement line (OEL).

b. 3-digit (required); 10-piece minimum; green Label 3 or OEL.

c. ADC (required); 10-piece minimum; pink Label A or OEL.

d. Mixed ADC (required); no minimum; tan Label X or OEL.

[Redesignate current 5.3 as new 5.2; revise heading of new 5.2 to read as follows:]

5.2 Sacking and Labeling

[Revise new 5.2 to read as follows:]

Preparation sequence, sack size, and labeling:

a. 5-digit (required); 10-pound minimum; labeling:

(1) Line 1: city, state, and 5-digit ZIP Code on mail (see M031 for overseas military mail).

(2) Line 2: “FCM PARCELS 5D.”

b. 3-digit (required); 10-pound minimum, except for required origin 3-digit(s); labeling:

(1) Line 1: L002, Column A.

(2) Line 2: “FCM PARCELS 3D.”

c. ADC (required); 10-pound minimum; labeling:

(1) Line 1: L004.

(2) Line 2: “FCM PARCELS ADC.”

d. Mixed ADC (required); no minimum; labeling:

(1) Line 1: “MXD” followed by city, state, and 3-digit ZIP Code prefix of facility serving 3-digit ZIP Code prefix of entry post office, as shown in L002, Column C.

(2) Line 2: “FCM PARCELS WKG.”

[Delete current 5.4.]

* * * * *

M200 Periodicals (Nonautomation)

M210 Presorted Periodicals

* * * * *

2.0 PACKAGE PREPARATION

[Revise 2.0 by combining current 2.1 and 2.2 to read as follows:]

Packaging is required before traying or sacking. A package must be prepared when the quantity of addressed pieces for a required presort level reaches the minimum package size. Smaller volumes are not permitted except mixed ADC packages and 5-digit and 3-digit packages prepared under 1.5. Packaging is also subject to M020. Preparation sequence, package size, and labeling:

[Change in 2.0b “red Label D” to “red Label 5”; change in 2.0e “tan Label MXD” to “tan Label X” to read as follows:]

a. Firm (optional); two-piece minimum; blue Label F or optional endorsement line (OEL).

b. 5-digit (required); six-piece minimum; red Label 5 or OEL; package labeling optional for pieces in full 5-digit trays.

c. 3-digit (required); six-piece minimum; green Label 3 or OEL.

d. ADC (required); six-piece minimum; pink Label A or OEL.

e. Mixed ADC (required); no minimum; tan Label X or OEL.

[Revise heading of 3.0 to read as follows:]

3.0 TRAY PREPARATION—LETTER-SIZE PIECES

[Revise introductory text to read as follows:]

Preparation sequence, tray size, and labeling:

* * * * *

[Revise 3.0a(1) to read as follows:]

* * * * *

(1) Line 1: use city, state and 5-digit ZIP Code on mail (see M031 for overseas military mail).

* * * * *

[Revise heading of 4.0 to read as follows:]

4.0 SACK PREPARATION—FLAT-SIZE PIECES AND IRREGULAR PARCELS

[Revise second sentence in introductory text to read as follows:]

* * * For other mailing jobs, preparation sequence, tray size, and labeling:

* * * * *

[Revise 4.0a(1) to read as follows:]

* * * * *

(1) Line 1: use city, state and 5-digit ZIP Code on mail (see M031 for overseas military mail).

* * * * *

M220 Carrier Route Periodicals

* * * * *

2.0 PACKAGE PREPARATION

* * * * *

[Revise heading of 2.4 to read as follows:]

2.4 Packaging and Labeling

[Revise 2.4 to read as follows:]

Preparation sequence, package size, and labeling:

a. Firm (optional); two-piece minimum; blue Label F or optional endorsement line (OEL).

b. Carrier route (optional, but required for rate eligibility); six-piece minimum (fewer pieces permitted under 1.5); labeling required (facing slip, OEL, or carrier route information line) except for packages placed in a carrier route tray or sack.

[Revise heading of 3.0 to read as follows:]

3.0 PREPARATION—LETTER-SIZE PIECES

3.1 Basic Preparation

[Revise introductory text to read as follows:]

Preparation sequence, tray size, and labeling:

* * * * *

[Revise 3.1a(1) to read as follows:]

* * * * *

(1) Line 1: use city, state and 5-digit ZIP Code on mail (see M031 for overseas military mail).

* * * * *

[Revise heading of 4.0 to read as follows:]

4.0 PREPARATION—FLAT-SIZE PIECES AND IRREGULAR PARCELS

[Revise introductory text to read as follows:]

Preparation sequence, sack size, and labeling:

* * * * *

[Revise 4.0a(1) to read as follows:]

* * * * *

(1) Line 1: use city, state and 5-digit ZIP Code on mail (see M031 for overseas military mail).

* * * * *

M600 Standard Mail (Nonautomation)

M610 Presorted Standard Mail

* * * * *

2.0 PREPARATION—MACHINABLE LETTER-SIZE PIECES

* * * * *

2.2 Traying and Labeling

* * * * *

[Revise 2.2a(1) to read as follows:]

(1) Line 1: city, state, and 5-digit ZIP Code on mail (see M031 for overseas military mail).

* * * * *

3.0 PREPARATION—NONMACHINABLE LETTER-SIZE PIECES

[Revise heading of 3.1 to read as follows:]

3.1 Packaging and Labeling

[Revise introductory text of 3.1 to read as follows:]

Except as provided in M020.1.9, packaging is required before traying. A package must be prepared when the quantity of addressed pieces for a required presort level reaches a minimum of 10 pieces. Smaller volumes are not permitted except for mixed ADC packages. Mailers who prefer that the USPS not automate letter-size pieces must also identify each package with a facing slip marked “MANUAL ONLY” or use a “MANUAL ONLY” optional endorsement line (see M013). Preparation sequence, package size, and labeling:

[Change in 3.1a “red Label D” to “red Label 5”; change in 3.1d “tan Label MXD” to “tan Label X”.]

[Delete current 3.2 and redesignate current 3.3 as new 3.2.]

3.2 Traying and Labeling

* * * * *

[Revise new 3.2a(1) to read as follows:]

(1) Line 1: city, state, and 5-digit ZIP Code on mail (see M031 for overseas military mail).

* * * * *

[Revise 4.0 by moving standards for irregular parcels to new 5.0; redesignate current 5.0 as new 6.0; revise current 4.0 to read as follows:]

4.0 PREPARATION—FLAT-SIZE PIECES

4.1 Required Packaging

Except as provided in 4.3, packaging is required before sacking. A package must be prepared when the quantity of addressed pieces for a required presort level reaches the required minimum package size in 4.2. Smaller volumes are not permitted except for mixed ADC packages.

4.2 Packaging and Labeling

Preparation sequence, package size, and labeling:

a. 5-digit (required); 17-piece minimum, optional 10-to 16-piece minimum (one consistent minimum required for a mailing job); red Label 5 or optional endorsement line (OEL).

b. 3-digit (required); 10-piece minimum; green Label 3 or OEL.

c. ADC (required); 10-piece minimum; pink Label A or OEL.

d. Mixed ADC (required); no minimum; tan Label X or OEL.

4.3 Loose Packing

District managers may authorize loose packing of unpackaged pieces to fill Number 3 sacks if no pieces in a sack would be more finely sorted if packaged. Pieces must be faced and packed to remain oriented in transit. The total weight of sacks containing such pieces may not exceed 70 pounds. Requests for loose packing must be made in advance through the post office of mailing.

4.4 Required Sacking

Except as provided in 4.5, a sack, or a letter tray under M033, must be prepared when the quantity of mail for a required presort destination reaches either 125 pieces or 15 pounds of pieces, whichever occurs first, subject to these conditions:

a. For identical-weight pieces, mailers must apply these methods:

(1) Pieces weighing 1.92 ounces (0.12 pound) or less must be prepared using the 125-piece minimum.

(2) Pieces weighing more than 1.92 ounces must be prepared using the 15-pound minimum.

b. For nonidentical-weight pieces, mailers must apply either one of these methods:

(1) The minimum that applies to the average piece weight for the entire mailing is used. The net weight of the mailing is divided by the number of pieces, and the resulting average single-piece weight is used to determine whether the 125-piece or 15-pound minimum applies.

(2) The actual piece count or mail weight for each sack is used, if documentation can be provided with the mailing that shows for each sack the number of pieces and the total weight.

c. The accompanying postage statement must indicate whether the 125-piece minimum, the 15-pound minimum, or both minimums are applied.

4.5 Drop Shipment

A mailer using Priority Mail or Express Mail to drop ship Standard Mail flat-size pieces may prepare sacks containing fewer than 125 pieces or less than 15 pounds of mail.

4.6 Sacking and Labeling

Preparation sequence, sack size, and labeling:

a. 5-digit (required); 125-piece or 15-pound minimum; labeling:

(1) Line 1: city, state, and 5-digit ZIP Code on mail (see M031 for overseas military mail).

(2) Line 2: “STD FLTS 5D NON BC.”

b. 3-digit (required); 125-piece or 15-pound minimum; labeling:

(1) Line 1: L002, Column A.

(2) Line 2: “STD FLTS 3D NON BC.”

c. Origin 3-digit(s) (required) and entry 3-digit(s) (optional); one-package minimum (for origin or entry); labeling:

(1) Line 1: L002, Column A.

(2) Line 2: “STD FLTS 3D NON BC.”

d. ADC (required); 125-piece or 15-pound minimum; labeling:

(1) Line 1: L004.

(2) Line 2: “STD FLTS ADC NON BC.”

e. Mixed ADC (required); no minimum; labeling:

(1) Line 1: “MXD” followed by city, state, and ZIP Code of ADC serving 3-digit ZIP Code prefix of entry post office as shown in L004; if placed on an ASF or BMC pallet under option in M045.3.2, L802.

(2) Line 2: “STD FLTS NON BC WKG.”

[Redesignate current 5.0 as new 6.0 and add new 5.0 to read as follows:]

5.0 PREPARATION—IRREGULAR PARCELS

5.1 Required Packaging

Except as provided in 5.3 and 5.5, packaging is required before sacking. A package must be prepared when the quantity of addressed irregular parcels for a required presort level reaches the required minimum package size. Smaller volumes are not permitted except for mixed ADC packages and packages prepared under 5.4.

5.2 Packaging and Labeling

Preparation sequence, package size, and labeling:

a. 5-digit (required); 10-piece minimum; red Label 5 or optional endorsement line (OEL).

b. 3-digit (required); 10-piece minimum; green Label 3 or OEL.

c. ADC (required); 10-piece minimum; pink Label A or OEL.

d. Mixed ADC (required); no minimum; tan Label X or OEL.

5.3 Packaging Exceptions

Packaging is not required for irregular parcels under any of these conditions:

a. The parcels are ½ inch thick or greater and placed in a sack to the same destination to which they would otherwise be packaged (e.g., in a 3-digit sack rather than a 3-digit package).

b. The parcels are so large that 10 or fewer fill a sack.

c. The parcels are in a 5-digit scheme or 5-digit sack containing both machinable and irregular parcels. Sacks containing both machinable and irregular parcels may not be prepared to other presort levels.

5.4 Commingling Irregular Parcel Mailings

Business Mailer Support (BMS) (see G043 for address) may authorize the commingling of several permit imprint mailings of irregular parcels to achieve a finer presort if the payment of proper postage can be documented. BMS may waive minimum quantity standards for preparation of 5-digit and 3-digit presort destination packages if doing so results in a finer preparation of at least 50% of the mail.

5.5 Loose Packing

District managers may authorize loose packing of unpackaged irregular parcels to fill Number 3 sacks if no parcels in a sack would be more finely sorted if packaged. Parcels must be faced and packed to remain oriented in transit. The total weight of sacks containing such parcels may not exceed 70 pounds. Requests for loose packing must be made in advance through the post office of mailing.

5.6 Required Sacking

Except as provided in 5.7, a sack must be prepared when the quantity of mail for a required presort destination reaches either 125 pieces or 15 pounds of pieces, whichever occurs first, subject to these conditions:

a. For identical-weight pieces, mailers must apply these methods:

(1) Pieces weighing 1.92 ounces (0.12 pound) or less must be prepared using the 125-piece minimum.

(2) Pieces weighing more than 1.92 ounces must be prepared using the 15-pound minimum.

b. For nonidentical-weight pieces, mailers must apply either one of these methods:

(1) The minimum that applies to the average piece weight for the entire mailing is used. The net weight of the mailing is divided by the number of pieces, and the resulting average single-piece weight is used to determine whether the 125-piece or 15-pound minimum applies.

(2) The actual piece count or mail weight for each sack is used, if documentation can be provided with the mailing that shows for each sack the number of pieces and the total weight.

c. The accompanying postage statement must indicate whether the 125-piece minimum, the 15-pound minimum, or both minimums are applied.

5.7 Drop Shipment

A mailer using Priority Mail or Express Mail to drop ship Standard Mail irregular parcels may prepare sacks containing fewer than 125 pieces or less than 15 pounds of mail.

5.8 Sacking and Labeling

Preparation sequence, sack size, and labeling:

a. 5-digit scheme (optional), as applicable:

(1) Irregular parcels: 125-piece or 15-pound minimum; labeling for Line 1, L606; for Line 2, “STD IRREG 5D SCHEME” or “STD IRREG 5D SCH.”

(2) Commingled machinable and irregular parcels: no minimum; labeling for Line 1, L606; for Line 2, “STD MACH-IRREG 5D SCH.”

b. 5-digit (required), as applicable:

(1) Irregular parcels: 125-piece or 15-pound minimum; labeling for Line 1, city, state, and 5-digit ZIP Code on mail (see M031 for overseas military mail); for Line 2, “STD IRREG 5D.”

(2) Commingled machinable and irregular parcels: 10-pound minimum; labeling for Line 1, city, state, and 5-digit ZIP Code on mail (see M031 for overseas military mail); for Line 2, “STD MACH-IRREG 5D.”

c. 3-digit (required); 125-piece or 15-pound minimum; labeling:

(1) Line 1: L002, Column A.

(2) Line 2: “STD IRREG 3D.”

d. Origin 3-digit(s) (required) and entry 3-digit(s) (optional); one-package minimum (for origin or entry); labeling:

(1) Line 1: L002, Column A.

(2) Line 2: “STD IRREG 3D.”

e. ADC (required); 125-piece or 15-pound minimum; labeling:

(1) Line 1: L603.

(2) Line 2: “STD IRREG ADC.”

f. Mixed ADC (required); no minimum; labeling:

(1) Line 1: “MXD” followed by city, state, and ZIP Code of ADC serving 3-digit ZIP Code prefix of entry post office as shown in L604.

(2) Line 2: “STD IRREG WKG.”

6.0 PREPARATION—MACHINABLE PARCELS

6.1 5-Digit Sacks

[Change at end of first sentence in 6.1 “under 4.0” to “under 5.0.”)

* * * * *

[Revise heading of redesignated 6.2 to read as follows:]

6.2 Sacking and Labeling

* * * * *

M620 Enhanced Carrier Route Standard Mail

* * * * *

3.0 PREPARATION—LETTER-SIZE PIECES

3.1 Required Tray Preparation

Preparation sequence, tray size, and labeling

* * * * *

[Revise 3.1a(1) to read as follows:]

(1) Line 1: city, state, and 5-digit ZIP Code on mail (see M031 for overseas military mail).

* * * * *

[Revise 3.1b(1) to read as follows:]

(1) Line 1: city, state, and 5-digit ZIP Code on mail (see M031 for overseas military mail).

* * * * *

[Revise 3.1c(1) to read as follows:]

(1) Line 1: city, state, and 3-digit ZIP Code prefix shown in L002, Column A, that corresponds to 3-digit ZIP Code prefix on mail.

* * * * *

[Revise heading of 3.2 to read as follows:]

3.2 Alternative Line 2 Information

[Revise 3.2 to read as follows:]

For trays containing nonbarcoded or nonmachinable letter-size pieces, these Line 2 label designations are used in place of “BC”:

a. Trays containing nonbarcoded machinable pieces: “MACH.”

b. Trays containing nonmachinable pieces: “MAN.”

c. Trays containing simplified address pieces: “MAN.”

[Delete current 3.3 and 3.4.]

4.0 PREPARATION—FLATS

* * * * *

4.2 Sack Preparation

[Revise introductory text to read as follows:]

Preparation sequence, sack size, and labeling:

* * * * *

[Revise 4.2a(1) to read as follows:]

(1) Line 1: city, state, and 5-digit ZIP Code on mail (see M031 for overseas military mail).

* * * * *

[Revise 4.2c(1) to read as follows:]

(1) Line 1: city, state, and 5-digit ZIP Code on mail (see M031 for overseas military mail).

* * * * *

5.0 PREPARATION—IRREGULAR PARCELS

* * * * *

5.2 Sack Preparation

[Revise introductory text to read as follows:]

Preparation sequence, sack size, and labeling:

* * * * *

[Revise 5.2a(1) to read as follows:]

(1) Line 1: city, state, and 5-digit ZIP Code on mail (see M031 for overseas military mail).

* * * * *

[Revise 5.2b(1) to read as follows:]

(1) Line 1: city, state, and 5-digit ZIP Code on mail (see M031 for overseas military mail).

* * * * *

M700 Package Services

M710 Parcel Post

* * * * *

2.0 DSCF RATE

* * * * *

[Revise heading of 2.2 to read as follows:]

2.2 Sacking and Labeling

* * * * *

[Revise 2.2d to read as follows:]

d. 5-digit sack labeling: Line 1, use city, state, and 5-digit ZIP Code on mail (see M031 for overseas military mail); for Line 2, “PSVC PARCELS 5D.”

* * * * *

3.0 DDU RATE

The requirements for the DDU rate are as follows:

* * * * *

[Revise 3.0e to read as follows:]

e. Sacked mail must be labeled as follows:

(1) 5-digit scheme: Line 1, L606; Line 2, “PSVC PARCELS 5D SCH.”

(2) 5-digit: Line 1, city, state, and 5-digit ZIP Code on mail (see M031 for overseas military mail); Line 2, “PSVC PARCELS 5D.”

* * * * *

M720 Bound Printed Matter

* * * * *

M722 Presorted Bound Printed Matter

* * * * *

[Revise heading of 2.0 to read as follows:]

2.0 PREPARATION—FLATS

2.1 Required Packaging

[Add sentence to beginning of 2.1 to read as follows:]

Packaging is required before sacking.* * *

* * * * *

[Revise heading of 2.2 to read as follows:]

2.2 Packaging and Labeling

[Revise 2.2 to read as follows:]

Preparation sequence and labeling:

a. 5-digit (required); red Label 5 or optional endorsement line (OEL).

b. 3-digit (required); green Label 3 or OEL.

c. ADC (required); pink Label A or OEL.

d. Mixed ADC (required); tan Label X or OEL.

* * * * *

[Revise heading of 2.4 to read as follows:]

2.4 Sacking and Labeling

[Revise 2.4 to read as follows:]

Preparation sequence and labeling:

a. 5-digit (required); labeling:

(1) Line 1: city, state, and 5-digit ZIP Code on mail (see M031 for overseas military mail).

(2) Line 2: “PSVC FLTS 5D NON BC.”

b. 3-digit (required); labeling:

(1) Line 1: L002, Column A.

(2) Line 2: “PSVC FLTS 3D NON BC.”

c. SCF (optional); labeling:

(1) Line 1: L005.

(2) Line 2: “PSVC FLTS SCF NON BC.”

d. ADC (required); labeling:

(1) Line 1: L004.

(2) Line 2: “PSVC FLTS ADC NON BC.”

e. Mixed ADC (required); labeling:

(1) Line 1: “MXD” followed by city, state, and ZIP Code of ADC serving 3-digit ZIP Code prefix of entry post office, as shown in L004.

(2) Line 2: “PSVC FLTS NON BC WKG.”

[Delete current 2.5.]

[Revise heading of 3.0 to read as follows:]

3.0 PREPARATION—IRREGULAR PARCELS WEIGHING LESS THAN 10 POUNDS

3.1 Required Packaging

[Revise first sentence of 3.1 to read as follows:]

Packaging is required before sacking, except for pieces placed in 5-digit scheme and 5-digit sacks when such pieces are enclosed in an envelope, full-length sleeve, full-length wrapper, or polybag and the minimum package size is met.* * *

* * * * *

[Revise heading of 3.2 to read as follows:]

3.2 Packaging and Labeling

[Revise 3.2 to read as follows:]

Preparation sequence and labeling:

a. 5-digit (required); red Label 5 or optional endorsement line (OEL).

b. 3-digit (required); green Label 3 or OEL.

c. ADC (required); pink Label A or OEL.

d. Mixed ADC (required); tan Label X or OEL.

3.3 Required Sacking

[Revise 3.3 by adding current 3.6 before last sentence of introductory text to read as follows:]

* * * Sacking is not required for 5-digit packages when prepared for and entered at DDU rates. Such packages may be bedloaded and may weigh up to 40 pounds.* * *

* * * * *

[Revise heading of 3.4 to read as follows:]

3.4 Sacking and Labeling

[Revise 3.4 to read as follows:]

Preparation sequence and labeling:

a. 5-digit scheme (optional); labeling:

(1) Line 1: L606.

(2) Line 2: “PSVC IRREG 5D SCHEME” or “PSVC IRREG 5D SCH.”

b. 5-digit (required); labeling:

(1) Line 1: city, state, and 5-digit ZIP Code on mail (see M031 for overseas military mail).

(2) Line 2: “PSVC IRREG 5D.”

c. 3-digit (required); labeling:

(1) Line 1: L002, Column A.

(2) Line 2: “PSVC IRREG 3D.”

d. SCF (optional); labeling:

(1) Line 1: L005.

(2) Line 2: “PSVC IRREG SCF.”

e. ADC (required); labeling:

(1) Line 1: L004.

(2) Line 2: “PSVC IRREG ADC.”

f. Mixed ADC (required); labeling:

(1) Line 1: “MXD” followed by city, state, and ZIP Code of ADC serving 3-digit ZIP Code prefix of entry post office, as shown in L004.

(2) Line 2: “PSVC IRREG WKG.”

[Delete current 3.5 and 3.6.]

[Revise heading of 4.0 to read as follows:]

4.0 PREPARATION—IRREGULAR PARCELS WEIGHING 10 POUNDS OR MORE

* * * * *

4.2 Required Sacking

[Revise 4.2 by adding amended 4.5 to end of 4.2 to read as follows:]

* * * Sacking is not required for 5-digit packages when prepared for and entered at DDU rates. Such packages may be bedloaded and may weigh up to 40 pounds.

[Revise heading of 4.3 to read as follows:]

4.3 Sacking and Labeling

[Revise 4.3 to read as follows:]

Preparation sequence and labeling:

a. 5-digit scheme (optional); labeling:

(1) Line 1: L606.

(2) Line 2: “PSVC IRREG 5D SCHEME” or “PSVC IRREG 5D SCH.”

b. 5-digit (required); labeling:

(1) Line 1: city, state, and 5-digit ZIP Code on mail (see M031 for overseas military mail).

(2) Line 2: “PSVC IRREG 5D.”

c. 3-digit (required); labeling:

(1) Line 1: L002, Column A.

(2) Line 2: “PSVC IRREG 3D.”

d. SCF (optional); labeling:

(1) Line 1: L005.

(2) Line 2: “PSVC IRREG SCF.”

e. ADC (required); labeling:

(1) Line 1: L004.

(2) Line 2: “PSVC IRREG ADC.”

f. Mixed ADC (required); labeling:

(1) Line 1: “MXD” followed by city, state, and ZIP Code of ADC serving 3-digit ZIP Code prefix of entry post office, as shown in L004.

(2) Line 2: “PSVC IRREG WKG.”

[Delete current 4.4 and 4.5.]

[Revise heading of 5.0 to read as follows:]

5.0 PREPARATION—MACHINABLE PARCELS

[Revise heading of 5.1 to read as follows:]

5.1 DBMC Rates Not Claimed—Required Sacking

* * * * *

[Revise heading of 5.2 to read as follows:]

5.2 DBMC Rates Not Claimed—Sacking and Labeling

[Revise 5.2 by combining with current 5.3 to read as follows:]

Preparation sequence and labeling:

a. 5-digit scheme (optional); labeling:

(1) Line 1: L606.

(2) Line 2: “PSVC MACH 5D SCHEME” or “PSVC MACH 5D SCH.”

b. 5-digit (required); labeling:

(1) Line 1: city, state, and 5-digit ZIP Code on mail (see M031 for overseas military mail).

(2) Line 2: “PSVC MACH 5D.”

c. BMC (required); labeling:

(1) Line 1: L601.

(2) Line 2: “PSVC MACH BMC.”

d. Mixed BMC (required); labeling:

(1) Line 1: “MXD” followed by L601, Column B, information for BMC serving 3-digit ZIP Code prefix of entry post office.

(2) Line 2: “PSVC MACH WKG.”

[Redesignate current 5.4 and 5.5 as new 5.3 and 5.4, respectively.]

[Revise heading of new 5.3 to read as follows:]

5.3 DMBC Rates—Required Sacking

* * * * *

[Revise heading of new 5.4 to read as follows:]

5.4 DBMC Rates—Sacking and Labeling

[Revise new 5.4 by combining with current 5.6 to read as follows:]

Preparation sequence and labeling:

a. 5-digit scheme (optional); labeling:

(1) Line 1: L606.

(2) Line 2: “PSVC MACH 5D SCHEME” or “PSVC MACH 5D SCH.”

b. 5-digit (required); labeling:

(1) Line 1: city, state, and 5-digit ZIP Code on mail (see M031 for overseas military mail).

(2) Line 2: “PSVC MACH 5D.”

c. ASF (optional, allowed only for mail deposited at an ASF to claim DBMC rate); labeling:

(1) Line 1: L602. DBMC rate eligibility determined by E752 and Exhibit E751.1.3.

(2) Line 2: “PSVC MACH ASF.”

d. BMC (required); labeling:

(1) Line 1: L601. DBMC rate eligibility determined by E752 and Exhibit E751.1.3.

(2) Line 2: “PSVC MACH BMC.”

e. Mixed BMC (required); labeling:

(1) Line 1: “MXD” followed by information in L601, Column B, for BMC serving 3-digit ZIP Code prefix of entry post office.

(2) Line 2: “PSVC MACH WKG.”

[Delete current 5.6.]

M723 Carrier Route Bound Printed Matter

* * * * *

[Revise heading of 2.0 to read as follows:]

2.0 PREPARATION—FLATS

* * * * *

2.3 Sack Preparation

* * * * *

[Revise 2.3a to read as follows:]

a. Carrier route: required; for Line 1, use city, state, and 5-digit ZIP Code on mail (see M031 for overseas military mail).

* * * * *

[Revise heading of 3.0 to read as follows:]

3.0 PREPARATION—IRREGULAR PARCELS WEIGHING LESS THAN 10 POUNDS

* * * * *

3.3 Sack Preparation

* * * * *

[Revise 3.3a to read as follows:]

a. Carrier route: required; for Line 1, use city, state, and 5-digit ZIP Code on mail (see M031 for overseas military mail).

* * * * *

[Revise heading of 4.0 to read as follows:]

4.0 PREPARATION—IRREGULAR PARCELS WEIGHING 10 POUNDS OR MORE

* * * * *

[Revise heading of 5.0 to read as follows:]

5.0 PREPARATION—MACHINABLE PARCELS

* * * * *

M730 Media Mail

* * * * *

2.0 PREPARATION—FLATS

[Revise heading of 2.1 to read as follows:]

2.1 Required Packaging

[Revise second sentence in 2.1 to read as follows:]

* * * Smaller volumes are not permitted except for mixed ADC packages.* * *

* * * * *

[Revise heading of 2.2 to read as follows:]

2.2 Packaging and Labeling

[Revise 2.2 and change in 2.2a “red Label D” to “red Label 5” and in 2.2d “tan Label MXD” to “tan Label X” to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 2.3 to read as follows:]

2.3 Required Sacking

* * * * *

[Revise heading of 2.4 to read as follows:]

2.4 Sacking and Labeling

[Revise introductory text of 2.4 to read as follows:]

Preparation sequence, sack size, and labeling:

* * * * *

[Revise 2.4a(1) to read as follows:]

(1) Line 1: use city, state, and 5-digit ZIP Code on mail (see M031 for overseas military mail).

* * * * *

3.0 PREPARATION—IRREGULAR PARCELS

[Revise heading of 3.1 to read as follows:]

3.1 Required Packaging

[Replace first sentence of 3.1 with following text to read as follows:]

A package must be prepared when the quantity of addressed pieces for a required presort level reaches a minimum of 10 pieces. Smaller volumes are not permitted except for mixed ADC packages. Packaging is not required for pieces placed in 5-digit scheme sacks and 5-digit sacks when such pieces are enclosed in an envelope, full-length sleeve, full-length wrapper, or polybag and the minimum package volume is met.* * *

* * * * *

[Revise heading of 3.2 to read as follows:]

3.2 Packaging and Labeling

[Revise 3.2 and change in 3.2a “red Label D” to “red Label 5” and in 3.2d “tan Label MXD” to “tan Label X” to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 3.3 to read as follows:]

3.3 Required Sacking

* * * * *

[Revise heading of 3.4 to read as follows:]

3.4 Sacking and Labeling

[Revise introductory text to read as follows:]

Preparation sequence and labeling:

* * * * *

[Revise 3.4b(1) to read as follows:]

(1) Line 1: use city, state, and 5-digit ZIP Code on mail (see M031 for overseas military mail).

* * * * *

4.0 PREPARATION—MACHINABLE PARCELS

[Revise heading of 4.1 to read as follows:]

4.1 Required Sacking

* * * * *

[Revise heading of 4.2 to read as follows:]

4.2 Sacking and Labeling

[Revise introductory text to read as follows:]

Preparation sequence and labeling:

* * * * *

[Revise 4.2b(1) to read as follows:]

(1) Line 1: use city, state, and 5-digit ZIP Code on mail (see M031 for overseas military mail).

* * * * *

M740 Library Mail

* * * * *

2.0 PREPARATION—FLATS

[Revise heading of 2.1 to read as follows:]

2.1 Required Packaging

[Revise second sentence in 2.1 to read as follows:]

* * * Smaller volumes are not permitted except for mixed ADC packages.* * *

* * * * *

[Revise heading of 2.2 to read as follows:]

2.2 Packaging and Labeling

[Revise 2.2 and change in 2.2a “red Label D” to “red Label 5” and in 2.2d “tan Label MXD” to “tan Label X” to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 2.3 to read as follows:]

2.3 Required Sacking

* * * * *

[Revise heading of 2.4 to read as follows:]

2.4 Sacking and Labeling

[Revise introductory text to read as follows:]

Preparation sequence, sack size, and labeling:

* * * * *

[Revise 2.4a(1) to read as follows:]

(1) Line 1: use city, state, and 5-digit ZIP Code on mail (see M031 for overseas military mail).

* * * * *

3.0 PREPARATION—IRREGULAR PARCELS

[Revise heading of 3.1 to read as follows:]

3.1 Required Packaging

[Replace first sentence of 3.1 with following text to read as follows:]

A package must be prepared when the quantity of addressed pieces for a required presort level reaches a minimum of 10 pieces. Smaller volumes are not permitted except for mixed ADC packages. Packaging is not required for pieces placed in 5-digit scheme sacks and 5-digit sacks when such pieces are enclosed in an envelope, full-length sleeve, full-length wrapper, or polybag and the minimum package volume is met.* * *

* * * * *

[Revise heading of 3.2 to read as follows:]

3.2 Packaging and Labeling

[Revise 3.2 and change in 3.2a “red Label D” to “red Label 5” and in 3.2d “tan Label MXD” to “tan Label X” to read as follows:]

Preparation sequence, package size, and labeling:

a. 5-digit (optional, but required for 5-digit rate eligibility); 10-piece minimum; red Label 5 or optional endorsement line (OEL).

b. 3-digit (required); 10-piece minimum; green Label 3 or OEL.

c. ADC (required); 10-piece minimum; pink Label A or OEL.

d. Mixed ADC (required); no minimum; tan Label X or OEL.

[Revise heading of 3.3 to read as follows:]

3.3 Required Sacking

* * * * *

[Revise heading of 3.4 to read as follows:]

3.4 Sacking and Labeling

[Revise introductory text to read as follows:]

Preparation sequence and labeling:

* * * * *

[Revise 3.4b(1) to read as follows:]

(1) Line 1: use city, state, and 5-digit ZIP Code on mail (see M031 for overseas military mail).

* * * * *

4.0 PREPARATION—MACHINABLE PARCELS

[Revise heading of 4.1 to read as follows:]

4.1 Required Sacking

* * * * *

[Revise heading of 4.2 to read as follows:]

4.2 Sacking and Labeling

[Revise introductory text to read as follows:]

Preparation sequence and labeling:

* * * * *

[Revise 4.2b(1) to read as follows:]

(1) Line 1: use city, state, and 5-digit ZIP Code on mail (see M031 for overseas military mail).

* * * * *

M800 All Automation Mail

* * * * *

M820 Flat-Size Mail

* * * * *

2.0 FIRST-CLASS MAIL—REQUIRED PACKAGE-BASED PREPARATION

[Revise heading of 2.1 to read as follows:]

2.1 Packaging and Labeling

[Change in 2.1a “red Label D” to “red Label 5”; change in 2.1d “tan Label MXD” to “tan Label X”.]

[Revise heading of 2.2 to read as follows:]

2.2 Traying and Labeling

* * * * *

[Revise 2.2a(1) to read as follows:]

(1) Line 1: city, state, and 5-digit ZIP Code on mail (see M032 for overseas military mail).

* * * * *

4.0 PERIODICALS

[Revise heading of 4.1 to read as follows:]

4.1 Packaging and Labeling

[Change in 4.1b “red Label D” to “red Label 5”; change in 4.1e “tan Label MXD” to “tan Label X”.]

[Revise heading of 4.2 to read as follows:]

4.2 Sacking and Labeling

* * * * *

[Revise 4.2b(1) to read as follows:]

(1) Line 1: city, state, and 5-digit ZIP Code on mail (see M032 for overseas military mail).

* * * * *

5.0 STANDARD MAIL

[Revise heading of 5.1 to read as follows:]

5.1 Packaging and Labeling

[Change in 5.1b(1) and 5.1b(2) “red Label D” to “red Label 5”; change in 5.1e “tan Label MXD” to “tan Label X”.]

* * * * *

[Revise heading of 5.3 to read as follows:]

5.3 Sacking and Labeling

* * * * *

[Revise 5.3b(1) to read as follows:]

(1) Line 1: city, state, and 5-digit ZIP Code on mail (see M032 for overseas military mail).

* * * * *

6.0 BOUND PRINTED MATTER

[Revise heading of 6.1 to read as follows:]

6.1 Packaging and Labeling

[Change in 6.1b “red Label D” to “red Label 5”; change in 6.1e “tan Label MXD” to “tan Label X”.]

[Revise heading of 6.2 to read as follows:]

6.2 Sacking and Labeling

* * * * *

[Revise 6.2b(1) to read as follows:]

(1) Line 1: city, state, and 5-digit ZIP Code on mail (see M032 for overseas military mail).

* * * * *

M900 Advanced Preparation Options for Flats

M910 Co-Traying and Co-Sacking Packages of Automation and Presorted Mailings

* * * * *

4.0 BOUND PRINTED MATTER

4.1 Basic Standards

[Change in first sentence of 4.1 “Effective September 1, 2003, packages” to “Packages”.]

* * * * *

4.4 Sack Preparation and Labeling

* * * * *

[Revise 4.4a(1) to read as follows:]

(1) Line 1: city, state, and 5-digit ZIP Code destination (see M031 for overseas military mail).

* * * * *

M950 Co-Packaging Automation Rate and Presorted Rate Pieces

1.0 FIRST-CLASS MAIL

* * * * *

1.2 Package Preparation

[Change in 1.2a “red Label D” to “red Label 5”; change in 1.2d “tan Label MXD” to “tan Label X”.]

* * * * *

2.0 PERIODICALS

* * * * *

2.2 Package Preparation

[Change in 2.2c “red Label D” to “red Label 5”; change in 2.2f “tan Label MXD” to “tan Label X”.]

* * * * *

3.0 STANDARD MAIL

* * * * *

3.2 Package Preparation

[Change in 3.2b all instances of “red Label D” to “red Label 5”; change in 3.2e “tan Label MXD” to “tan Label X”.]

* * * * *

4.0 BOUND PRINTED MATTER

* * * * *

4.2 Package Preparation

[Change in 4.2b “red Label D” to “red Label 5”; change in 4.2e “tan Label MXD” to “tan Label X”.]

* * * * *

An appropriate amendment to 39 CFR 111 to reflect these changes will be published.

Neva R. Watson,
Attorney, Legislative, Office of Legal Policy and Ratemaking.

[FR Doc. 03-26299 Filed 10-16-03; 8:45 am]

BILLING CODE 7710-12-P